FEDERAL COMMUNICATIONS COMMISSION

Information Collection Being Reviewed by the Federal Communications Commission

AGENCY: Federal Communications Commission.

ACTION: Notice and request for comments.

SUMMARY: As part of its continuing effort to reduce paperwork burden and as required by the Paperwork Reduction Act (PRA) of 1995 (44 U.S.C. 3501-3520), the Federal Communications Commission invites the general public and other Federal agencies to take this opportunity to comment on the following information collection(s). Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information burden for small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before April 30, 2012. If you anticipate that you will be submitting PRA comments, but find it difficult to do so within the period of time allowed by this notice, you should advise the FCC contact listed below as soon as possible.

ADDRESSES: Submit your PRA comments to Judith B. Herman, Federal Communications Commission, via the Internet at Judith-b.herman@fcc.gov. To submit your PRA comments by email send them to: PRA@fcc.gov.

FOR FURTHER INFORMATION CONTACT: Judith B. Herman, Office of Managing Director, (202) 418-0214.

SUPPLEMENTARY INFORMATION:

OMB Control Number: 3060-0936.

Title: Section 95.1215, Medical Device Radiocommunication Service (MedRadio); Disclosure Policies and Section 95.1217, Labeling Requirements.

Form Number: N/A.

Type of Review: Revision of a currently approved collection.

Respondents: Business or other for-profit entities and Not-for-profit institutions.

Number of Respondents: 100 respondents; 100 responses.

Estimated Time per Response: 1 hour for each manufacturer (20 manufacturers).

Frequency of Response: On occasion reporting requirement and third party disclosure requirement.

Obligation to Respond: Required to obtain or retain benefits. Statutory authority for this information collection is contained in 47 U.S.C. Sections 151, and 303 of the Communications Act of 1934, as amended.

Total Annual Burden: 100 hours.

Total Annual Cost: N/A.

Privacy Impact Assessment: N/A.

Needs and Uses: The Commission will submit this information collection to the Office of Management and Budget (OMB) for approval of a revision. The Commission adopted and released a Report and Order, FCC 11-176, Amendment of Parts 2 and 95 of the Commission's rules to provide additional spectrum for the Medical Device Radiocommunication Service which requires manufacturers of MedRadio programmer/control transmitters shall include the following statement on the device(s) in conspicuous location, or if it is not feasible to place the statement on the device, in the instruction manual.

“This device may not interfere with stations operating in the 400.150-406.000 MHz band in the Meteorological Aids, Meteorological Satellite, and Earth Exploration Satellite Services and must accept any interference received, including interference that may cause undesired operation.”

Also section 95.1215(b) was revised as follows for which the Commission also seeks OMB approval:

Manufacturers of MedRadio transmitters operating in the 413-419 MHz, 426-432 MHz, 438-444 MHz, and 451-457 MHz bands must include with each transmitting device the following statement:

“This transmitter is authorized by rule under the MedRadio Service (47 CFR Part 95). This transmitter must not cause harmful interference to stations authorized to operate on a primary basis in the 413-419 MHz, 426-432 MHz, 438-444 MHz, and 451-457 MHz bands, and must accept interference that may be caused by such stations, including interference that may cause undesired operations. This transmitter shall be used only in accordance with the FCC Rules governing the MedRadio Service. Analog and digital voice communications are prohibited. Although this transmitter has been approved by the Federal Communications Commission, there is no guarantee that it will not receive interference or that any particular transmission from this transmitter will be free from interference.”

MedRadio programmer/control transmitters operating in the 413-419 MHz, 426-432 MHz, 438-444 MHz, and 451-457 MHz bands shall be labeled as provided in part 2 of this chapter and shall bear the following statement in a conspicuous location on the device:

“This device may not interfere with stations authorized to operate on a primary basis in the 413-419 MHz, 426-432 MHz, 438-444 MHz, and 451-457 MHz bands, and must accept any interference received, including interference that may cause undesired operation.”

OMB Control Number: 3060-1085.

Title: Section 9.5, Interconnected Voice Over Internet Protocol (VoIP) E911 Compliance.

Form Number: N/A.

Type of Review: Extension of a currently approved collection.

Respondents: Business or other for-profit entities and Not-for-profit institutions.

Number of Respondents: 12 respondents; 14,612,166 responses.

Estimated Time per Response: 0.04012548 hours.

Frequency of Response: On occasion reporting requirement, recordkeeping requirement and third party disclosure requirement.

Obligation to Respond: Mandatory. Statutory authority for this information collection is contained in 47 U.S.C. Sections 151, 154(i)-(j), 251(e) and 303(r) of the Communications Act of 1934, as amended.

Total Annual Burden: 586,320 hours.

Total Annual Cost: $80,235,305.

Privacy Impact Assessment: N/A.

Needs and Uses: The Commission will submit this information collection to the Office of Management and Budget (OMB) for approval of an extension (no change in the recordkeeping and/or third party disclosure requirements). This is necessary to obtain the three year OMB approval. There is an adjustment increase of 11,375 burden hours for this submission to OMB. The adjustment is due to recalculation of the previous estimates and an increase in the number of responses. There is no change in the annual cost burden.

On October 7, 2011, the Commission released the Contributions to the Telephone Relay Services Fund Report and Order. In addition to providing a systematic way of assessing contributions from non-interconnnected VoIP services providers, the Order also requires interconnected and non-interconnected VoIP services providers to report revenues and subscribership on FCC Form 499-A, Telecommunications Reporting Worksheet. This requirement was approved under OMB control number 3060-0819 on November 7, 2011. The reported data will be used by the Commission to assess monetary contribution requirements on VoIP services providers. The reported data will also provide actual subscriber activity that will improve the accuracy of the estimates used in the supporting statement. The first reports from non-interconnected VoIP services providers are due on April 1, 2012, and will yield more precise subscribership data that will be published for public consumption by early 2014.

The Commission requires providers of interconnected VoIP services to obtain information regarding their end users' location as a condition of providing service.

Interconnected VoIP providers must provide that information to entities that maintain databases used to ensure that the caller's location and a call back number are provided to requesting public safety answering points (PSAPs) when a 911 call is placed. The Commission also requires interconnected VoIP providers to ensure that end users understand the limitations of their service and obtain from the end user evidence of such understanding.

Federal Communications Commission.
Marlene H. Dortch,
Secretary, Office of the Secretary, Office of Managing Director.

[FR Doc. 2012-4816 Filed 2-28-12; 8:45 am]

BILLING CODE 6712-01-P